DEPARTMENT OF LABOR

Employment and Training Administration

[TA-W-40,778]

NACCO Materials Handling Group, Inc.; Greenville, NC; Notice of Termination of Investigation

Pursuant to section 221 of the Trade Act of 1974, an investigation was initiated on February 11, 2002, in response to a worker petition, which was filed by the company on behalf of workers at NACCO Materials Handling Group, Inc., Greenville, North Carolina.

The company has requested that the petition be withdrawn. Consequently, further investigation in this case would serve no purpose, and the investigation has been terminated.

Signed in Washington, DC, this 16th day of May, 2002.
Linda G. Poole,
Certifying Officer, Division of Trade Adjustment Assistance.

[FR Doc. 02-15436 Filed 6-18-02; 8:45 am]

BILLING CODE 4510-30-P